DEPARTMENT OF DEFENSE

Department of the Army

Notice of Intent To Grant Exclusive Patent License to 3F, LLC; Hickory, NC

AGENCY: Department of the Army, DoD.

ACTION: Notice of intent.

SUMMARY: The Department of the Army hereby gives notice of its intent to grant to 3F, LLC; a company having its principle place of business at 3539 S NC 127 Hwy., Hickory, NC 28602-8217, an exclusive license.

DATES: Written objections must be filed not later than 15 days following publication of this announcement.

ADDRESSES: Send written objections to U.S. Army Combat Capabilities Development Command Army Research Laboratory, Technology Transfer and Outreach Office, FCDD-RLD-PT/Annmarie Martin, Building 321, Room 126, 6375 Johnson Rd., Aberdeen Proving Ground, MD 21005-5425.

FOR FURTHER INFORMATION CONTACT: Annmarie Martin, (410) 278-9106, Email: ORTA@arl.army.mil.

SUPPLEMENTARY INFORMATION: The Department of the Army plans to grant an exclusive license to 3F, LLC in the field of use related to:

—Thermally drawn filaments for use in additive manufacturing, the filaments comprised of one or more thermoplastic polymers, wherein at least one of the polymers is a thermoplastic liquid crystal polymer.

relative to the following;

—Microstructured Materials”, US Patent Application No.: 15/081048, Filing Date 25 March 2016.

—Multi-Material Polymer Filament for Three-Dimensional Printing Co-Drawn with Functional or Structural Thread”, US Patent Application No.: 15/630175, Filing Date 22 June 2017.

—Mutli-Material Thermoplastic Filament with Regular Geometry for Extrusion Additive Manufacturing”, US Patent Application No.: 62/817161, Filing Date 12 March 2019.

The prospective exclusive license may be granted unless within fifteen (15) days from the date of this published notice, the U.S. Army Combat Capabilities Development Command Army Research Laboratory receives written objections including evidence and argument that establish that the grant of the license would not be consistent with the requirements of 35 U.S.C. 209(e) and 37 CFR 404.7(a)(1)(i). Competing applications completed and received by the U.S. Army Combat Capabilities Development Command Army Research Laboratory within fifteen (15) days from the date of this published notice will also be treated as objections to the grant of the contemplated exclusive license.

Objections submitted in response to this notice will not be made available to the public for inspection and, to the extent permitted by law, will not be released under the Freedom of Information Act, 5 U.S.C. 552.

Brenda S. Bowen,
Army Federal Register Liaison Officer.

[FR Doc. 2019-15508 Filed 7-19-19; 8:45 am]

BILLING CODE 5001-03-P